POSTAL SERVICE

39 CFR Part 111

New Mailing Standards for Domestic Mailing Services Products

AGENCY: Postal Service™.

ACTION: Final rule.

SUMMARY: On October 9, 2020, the Postal Service (USPS®) filed a notice of mailing services price adjustments with the Postal Regulatory Commission (PRC), effective January 24, 2021. This final rule contains the revisions to Mailing Standards of the United States Postal Service, Domestic Mail Manual (DMM®) to implement the changes coincident with the price adjustments.

DATES: Effective Date: January 24, 2021.

FOR FURTHER INFORMATION CONTACT: Jacqueline Erwin at (202) 268-2158 or Dale Kennedy at (202) 268-6592.

SUPPLEMENTARY INFORMATION: On November 18, 2020, the PRC favorably reviewed the price adjustments proposed by the Postal Service. The price adjustments and DMM revisions are scheduled to become effective on January 24, 2021. Final prices are available under Docket No. R2021-1 (Order No. 5757) on the Postal Regulatory Commission's website at www.prc.gov.

Seamless Acceptance Incentive

USPS is providing a $.001 per mailpiece incentive. The incentive is available for First-Class Mail, USPS Marketing Mail, Periodicals and Bound Printed Matter mail flats that use the Full-Service Intelligent Mail barcode (IMb) option. The change provides an incentive to the Electronic Documentation (eDoc) submitters (with a Seamless CRID and an Enterprise Payment System Account) for adoption of the program. The incentive would be based on the eDoc submitter's Customer Registration ID (CRID).

A Seamless Mailer is defined by their CRID's status in PostalOne! as “Seamless Acceptance.” Note: Seamless Parallel does not qualify for the discount. The proposal is to allow Electronic Documentation (eDoc) submitters to receive a Seamless Acceptance incentive for the pieces that claim Full-Service prices in the mailing, provided the eDoc submitter has an Enterprise Payment account that is used for the incentive.

• The incentive is available to all eDoc submitters with a Seamless Acceptance CRID and an Enterprise Payment account who enroll in PostalOne!

• The incentive is applied to the Enterprise Payment account that corresponds with the permit selected during registration to receive the discount.

• A permit that corresponds with an Enterprise Payment trust or ACH debit account must be selected, in PostalOne!, to receive the incentive. Trust accounts will receive the incentive upon postage statement finalization and ACH debit accounts will receive the incentive as a daily aggregate.

• Mail.dat changes: No impact—Use existing Segment Record's (.seg) “eDoc Sender CRID” field to identify the CRID of the eDoc submitter.

• Mail.XML changes: No impact—Use existing OpenMailingGroupRequest > MailingGroupData > MailingFacilityfield to identify the CRID of the eDoc submitter.

• Postage Statement Changes: No impact—For eligible mailings the postage may be paid using any authorized payment account.

• Intelligent Mail for Small Business—Mailing Agent CRID (same as Permit Holder CRID) is used as the eDoc Submitter CRID.

• Business Mail Entry Unit—Hard-copy Postage Statement entry (only for contingency)—Mailing Agent CRID must be populated on the Postage Statement.

• Shipping Services File (SSF) Changes: No impact.

• Indicium Creation Record (ICR) File: No impact.

• Price Change Type/Product Type: Market Dominant Comments on Proposed Changes and USPS Responses.

The Postal Service did not receive any formal comments on the October 15, 2020 proposed rule (85 FR 65311).

* * * * *

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

Notice 123 (Price List)

[Revise prices as applicable.]

* * * * *

We will publish an appropriate amendment to 39 CFR part 111 to reflect these changes.

Joshua J. Hofer,
Attorney, Federal Compliance.

[FR Doc. 2020-27020 Filed 12-21-20; 8:45 am]

BILLING CODE 7710-12-P